FEDERAL COMMUNICATIONS COMMISSION

47 CFR Part 73

[DA 00-2205, MM Docket No. 00-76; RM-9809]

Digital Television Broadcast Services; Urbana, IL

AGENCY: Federal Communications Commission.

ACTION: Final rule.

SUMMARY: The Commission, at the request of The University of Illinois Board of Trustees, licensee of noncommercial education Station WILL-TV, substitutes DTV Channel *9 for DTV Channel *33 at Urbana, Illinois. See 65 FR 30599, May 12, 2000. DTV Channel *9 can be allotted to Urbana at coordinates (40-02-18 N. and 88-40-10W.) with a power of 30, HAAT of 302 meters, and a DTV service population of 1005 thousand. With this action, this proceeding is terminated.

DATES: Effective November 16, 2000.

FOR FURTHER INFORMATION CONTACT: Pam Blumenthal, Mass Media Bureau, (202) 418-1600.

SUPPLEMENTARY INFORMATION: This is a synopsis of the Commission's Report and Order, MM Docket No. 00-76, adopted September 29, 2000, and released October 2, 2000. The full text of this Commission decision is available for inspection and copying during normal business hours in the FCC Reference Center, 445 12th Street, SW., Washington, DC. The complete text of this decision may also be purchased from the Commission's copy contractor, International Transcription Services, Inc., (202) 857-3800, 1231 20th Street, NW., Washington, DC 20036.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, 336.

§ 73.622 [Amended]

2. Section 73.622(b), the Table of Digital Television Allotments under Illinois, is amended by removing DTV Channel *33 and adding DTV Channel *9 at Urbana.

Federal Communications Commission.
Barbara A. Kreisman,
Chief, Video Services Division, Mass Media Bureau.

[FR Doc. 00-25359 Filed 10-10-00; 8:45 am]

BILLING CODE 6712-01-M